DEPARTMENT OF JUSTICE

[AAG/A Order No. 011-2005]

Privacy Act of 1974; Notice of the Removal of System of Records

Pursuant to the provisions of the Privacy Act of 1974 (5 U.S.C. 552a), the Department of Justice is removing a published Privacy Act system of records entitled “Department of Justice (DOJ) Call Detail Records, Justice/JMD-012,” last published in the Federal Register on September 27, 1996, at 61 FR 50870.

This system of records notice is no longer necessary because DOJ authorized Bell Atlantic to terminate the Message Detail Recording on April 16, 1999. At the present time, a Verizon-owned computer processes telephone circuit usage for the Washington Area Switch Program (WASP II). That function (including long-distance calling) has been totally taken in-house by Verizon. The only way DOJ can have access to this information would be by a valid subpoena issued against Verizon. The DOJ records have been destroyed in accordance with the Retention and Disposal schedule provided in the Federal Register notice of September 27, 1996.

Therefore, the system of records entitled “Department of Justice Call Detail Records, Justice/JMD-012” is removed from the Department's compilation of Privacy Act systems of records effective on the date of publication of this notice in the Federal Register.

Dated: October 6, 2005.
Paul R. Corts,
Assistant Attorney General for Administration.

[FR Doc. 05-20998 Filed 10-19-05; 8:45 am]

BILLING CODE 4410-FB-P